DEPARTMENT OF AGRICULTURE

Agricultural Marketing Service

[AMS-TM-08-0086; TM-08-10A]

Notice of Amendment to 2008 National Organic Certification Cost-Share Program

AGENCY: Agricultural Marketing Services, USDA.

ACTION: Notice of Amended Funds Availability.

SUMMARY: On September 22, 2008, the Agricultural Marketing Service (AMS) published in the Federal Register (73 FR 54555), a Notice of Funds Availability inviting all States of the United States of America, its territories, the District of Columbia, and the Commonwealth of Puerto Rico, (collectively hereinafter called States) to submit an Application for Federal Assistance (Standard Form 424), and to enter into a cooperative agreement with AMS for the allocation of National Organic Certification Cost-Share Funds. This Notice informs that the National Organic Certification Cost-Share Program (Program) is being amended to provide cost-share assistance through participating States, to organic producers and handlers receiving certification or continuation of certification by a USDA-accredited certifying agent commencing October 1, 2007, rather than the originally announced October 1, 2008. To effectuate this amendment to the Program, AMS will issue amended cooperative agreements to participating States. Funding will be available for fiscal year 2008 (October 1, 2007, through September 30, 2008) in all States signing and returning an amended cooperative agreement. This action will make funds available to a greater number of eligible persons and achieve Congress' intent that use of National Organic Certification Cost-Share Funds begin with fiscal year 2008.

AMS has allocated a total of $22.0 million for the National Organic Certification Cost-Share Program commencing in fiscal year 2008. Funds are available under this Program to interested States to assist organic producers and handlers certified under the National Organic Program (NOP), as appropriate.

DATES: Interested states should submit a signed, amended cooperative agreement (provided by AMS) by December 26, 2008.

ADDRESSES: Amended cooperative agreements must be submitted to: Robert Pooler, Agricultural Marketing Specialist, National Organic Program, USDA/AMS/TMP/NOP, Room 4008—South, Ag Stop 0268, 1400 Independence Avenue, SW., Washington, DC 20250-0268; Telephone: (202) 720-3252; Fax: (202) 205-7808. Additional information may be found through the National Organic Program's homepage at http://www.ams.usda.gov/nop.

FOR FURTHER INFORMATION CONTACT: Robert Pooler, Agricultural Marketing Specialist, National Organic Program, USDA/AMS/TM/NOP, Room 4008—South, Ag Stop 0268, 1400 Independence Avenue, SW., Washington, DC 20250-0268; Telephone: (202) 720-3252; Fax: (202) 205-7808.

SUPPLEMENTARY INFORMATION: This Program is authorized under 7 U.S.C. 6523, as amended by section 10301 of the Food, Conservation and Energy Act of 2008 (Act). The Act authorizes the Department to provide certification cost share assistance to producers and handlers of organic agricultural products in all States. AMS has allocated $22 million for this program commencing in fiscal year 2008. The Program provides financial assistance to organic producers and handlers certified to the NOP. The NOP is authorized under the Organic Foods Production Act of 1990, as amended (7 U.S.C. 6501 et seq.).

On September 22, 2008, AMS published a Notice of Funds Availability in the Federal Register (73 FR 54555). That notice invited all States to submit an application and signed cooperative agreement to AMS by September 26, 2008.

This Notice informs that the Program is being amended to provide cost-share assistance through participating States, to organic producers and handlers receiving certification or continuation of certification by a USDA-accredited certifying agent commencing October 1, 2007, rather than the originally announced October 1, 2008. To effectuate this amendment to the Program, AMS will issue amended cooperative agreements to participating States. Funding will be available for fiscal year 2008 (October 1, 2007, through September 30, 2008) in all States signing and returning an amended cooperative agreement. This action will make funds available to a greater number of eligible persons and achieve Congress' intent that use of National Organic Certification Cost-Share Funds begin with fiscal year 2008.

Under the Act, payments are limited to 75 percent of an individual producer's or handler's certification costs up to a maximum of $750.00 per year.

However, for producers in the states of Connecticut, Delaware, Hawaii, Maine, Maryland, Massachusetts, Nevada, New Hampshire, New Jersey, New York, Pennsylvania, Rhode Island, Utah, Vermont, West Virginia, and Wyoming cost share funding is available to these states under the Agricultural Management Assistance Organic Certification Cost-Share Program authorized under section 1524 of the Federal Crop Insurance Act, as amended, (7 U.S.C. 1501-1524). As provided in a Notice of Funds Availability published in the Federal Register on August 28, 2008 (73 FR 50756), eligible States had until September 15, 2008, to complete and return an application for federal assistance, along with the signed cooperative agreements. Information on this program can be found on the NOP's homepage at http://www.ams.usda.gov/nop.

Authority: 7 U.S.C. 6523.

Dated: November 4, 2008.
James E. Link,
Administrator, Agricultural Marketing Service.

[FR Doc. E8-26661 Filed 11-7-08; 8:45 am]

BILLING CODE 3410-02-P